EQUAL EMPLOYMENT OPPORTUNITY COMMISSION

SES Performance Review Board

AGENCY: U. S. Equal Employment Opportunity Commission (EEOC).

ACTION: Notice of Membership of the EEOC Performance Review Board.

SUMMARY: Publication of the Performance Review Board (PRB) membership is required by 5 U.S.C. 4314(c)(4). The PRB is responsible for reviewing performance appraisals and ratings of Senior Executive Service (SES) members and making written recommendations to the Chair regarding SES retention and compensation matters, including performance ratings, performance awards, potential Presidential Rank Award nominees, and performance-based pay adjustments.

FOR FURTHER INFORMATION CONTACT: Angelica E. Ibarguen, Chief Human Capital Officer, Office of Human Resources, U.S. Equal Employment Opportunity Commission, 1801 L Street, NW., Room Washington, DC 20507, Telephone: (202) 663-4306.

SUPPLEMENTARY INFORMATION: The Board shall consist of at least three voting members. When evaluating a career appointee's initial appraisal or recommending a career appointee for a performance award, more than half of the members must be SES career appointees. The names and position titles of the members of the EEOC PRB are set forth below (all are EEOC officials except Rita Franklin, Deputy Director, Office of Human Capital Management , Department of Energy):

Leslie E. Silverman, Vice Chair (Chairperson of the PRB), Carlton Hadden, Director, Office of Federal Operations (Member); James Lee, Deputy General Counsel (Member); Spencer Lewis, Director, New York District Office (Member); Rita Franklin, Deputy Director, Office of Human Capital Management, Department of Energy (Member); and Jeffrey Smith, Chief Financial Officer (Alternate).

Membership is effective on the date of this notice.

Signed at Washington, DC on this 19th day of December 2006. For the Commission.
Naomi C. Earp,
Chair.

[FR Doc. E6-22108 Filed 12-26-06; 8:45 am]

BILLING CODE 6570-01-P